NUCLEAR REGULATORY COMMISSION

[NRC-2024-0151]

Draft Interim Staff Guidance: Contamination Control, Radiological Survey, and Dose Modeling Considerations To Support License Termination at Sites With Environmental Discrete Radioactive Particle Contamination

AGENCY: Nuclear Regulatory Commission.

ACTION: Draft guidance; request for comment.

SUMMARY: The U.S. Nuclear Regulatory Commission (NRC) is soliciting public comment on its draft Interim Staff Guidance (ISG), DUWP-ISG-03, “Draft Interim Staff Guidance on Contamination Control, Radiological Survey, and Dose Modeling Considerations to Support License Termination at Sites with Environmental Discrete Radioactive Particle Contamination.” The draft ISG addresses contamination control, radiological surveys, and dose modeling regarding discrete radioactive particles (DRPs) that are found in the environment due to an unplanned release or that potentially could be released to the environment during decommissioning. If finalized, this ISG would allow staff to develop consistent guidance regarding contamination control, particularly focused on non-diffuse contamination, during the decommissioning process, as well as provide acceptable survey approaches and dose methods for discrete radioactive particles until the appropriate NRC regulatory guidance can be updated.

DATES: Submit comments by October 28, 2024. Comments received after this date will be considered if it is practical to do so, but the Commission is able to ensure consideration only for comments received on or before this date.

ADDRESSES: You may submit comments by any of the following methods however, the NRC encourages electronic comment submission through the Federal rulemaking website.

• Federal rulemaking website: Go to https://www.regulations.gov and search for Docket ID NRC-2024-0151. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Amy M. Snyder, Office of Nuclear Material Safety and Safeguards, U.S. Nuclear Regulatory Commission, Washington, DC 20555-0001; telephone: 301-415-6822; email: Amy.Snyder@nrc.gov.

SUPPLEMENTARY INFORMATION:

I. Obtaining Information and Submitting Comments

A. Obtaining Information

Please refer to Docket ID NRC-2024-0151 when contacting the NRC about the availability of information for this action. You may obtain publicly available information related to this action by any of the following methods:

• Federal Rulemaking Website: Go to https://www.regulations.gov and search for Docket ID NRC-2024-0151.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document. The draft ISG is available in ADAMS under Accession No. ML24219A032.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0151 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Current decommissioning guidance is focused on addressing diffuse residual radioactivity with respect to performing surveys and assessing potential public exposure after license termination and does not address discrete radioactive particle contamination nor discuss how to control this type of contamination during decommissioning. For these reasons, the NRC staff have approached each past instance of DRP contamination on a case-by-case basis which may have led to some perceived inconsistencies in the approach to decommissioning. This draft guidance presents an acceptable approach for addressing discrete radioactive particle contamination throughout the decommissioning process. Such non-diffuse contamination can be found at power reactors, as well as fuel cycle facilities during any phase of decommissioning.

The staff is also issuing for public comment a draft regulatory analysis (ADAMS Accession No. ML24227A987).

III. Backfitting, Forward Fitting, and Issue Finality

Issuance of this ISG, if finalized, would not (i) constitute backfitting as defined in section 50.109 of title 10 of the Code of Federal Regulations (10 CFR), “Backfitting,” 70.76, “Backfitting,” and 72.62, “Backfitting,” and as described in Management Directive (MD) 8.4, “Management of Backfitting, Forward Fitting, Issue Finality, and Information Requests”; or (ii) affect issue finality of any approval issued under 10 CFR part 52, “Licenses, Certifications, and Approvals for Nuclear Power Plants”; or (iii) constitute forward fitting as that term is defined and described in MD 8.4, because licensees would not be required to comply with the positions set forth in this ISG, if finalized.

Dated: September 20, 2024.
For the Nuclear Regulatory Commission.
Jane Marshall,
Director, Division of Decommissioning, Uranium Recovery, and Waste Programs, Office of Nuclear Material Safety and Safeguards.

[FR Doc. 2024-22003 Filed 9-25-24; 8:45 am]

BILLING CODE 7590-01-P